DEPARTMENT OF COMMERCE

Economic Development Administration

Submission for OMB Review; Comment Request; Economic Development Administration Reauthorization Act of 2004 Implementation Information Collections

AGENCY: Economic Development Administration, Commerce.

SUMMARY: The Department of Commerce's Economic Development Administration (EDA) published an interim final rule revising its regulations to reflect the amendments made to its authorizing statute, the Public Works and Economic Development Act of 1965 (PWEDA), by the Economic Development Administration Reauthorization Act of 2004. In connection with its reauthorization and publication of an interim final rule, EDA conducted a review of its forms and other information collections to ensure that they are consistent with the statute and the regulations, as well as with current EDA practices and policies. As part of this review and in accordance with the Paperwork Reduction Act of 1995, EDA published a notice in the November 14, 2005 Federal Register providing the general public and other federal agencies with a 60-day period in which to comment on EDA's information collections.

Concurrent with the publication of this notice, EDA is submitting for Office of Management and Budget (OMB) clearance the proposed information collections set forth in this notice. EDA is requesting OMB approval of these information collections no later than April 30, 2006. Additionally, as part of its continuing effort to reduce paperwork and respondent burden under the Paperwork Reduction Act, EDA is providing the general public and other federal agencies with an opportunity to comment on the proposed information collections set forth in this notice.

DATES: Written comments on the proposed information collections contained in this notice must be submitted on or before April 3, 2006 to the contact person listed in the ADDRESSES section of this notice.

ADDRESSES: Interested parties are invited to submit written comments on the proposed information collections to David Rostker, EDA Desk Officer, facsimile: (202) 395-7285; e-mail: David_Rostker@omb.eop.gov. Please indicate “Comments on EDA Reauthorization Act of 2004 Implementation Information Collections” on each submission.

FOR FURTHER INFORMATION CONTACT: Requests for additional information or copies of the proposed information collections contained in this notice should be directed to: Diana Hynek, Departmental Paperwork Clearance Officer, Department of Commerce, HCHB Room 6625, 1401 Constitution Avenue, NW., Washington, DC 20230; facsimile: (202) 482-4218; email: dhynek@doc.gov. Please note that any correspondence sent by regular mail may be substantially delayed or suspended in delivery, since all regular mail sent to the Department of Commerce is subject to extensive security screening.

SUPPLEMENTARY INFORMATION:

I. Abstract

EDA's mission is to lead the federal economic agenda by promoting innovation and competitiveness, preparing American regions for growth and success in the worldwide economy. EDA will fulfill its mission by fostering entrepreneurship, innovation and productivity through investments in infrastructure development, capacity building and business development in order to attract private capital investments and higher-skill, higher-wage jobs to regions experiencing substantial and persistent economic distress. In order to administer and monitor its economic development programs and its Trade Adjustment Assistance for Firms program effectively, EDA collects certain information from applicants for, and recipients of, EDA investment assistance.

On August 11, 2005 EDA published an interim final rule in the Federal Register (70 FR 47002) revising its regulations to reflect the amendments made to PWEDA by the Economic Development Administration Reauthorization Act of 2004 (Pub. L. 108-373) (the “2004 Act”). With limited exceptions, the interim final rule (IFR) became effective on October 1, 2005. On December 15, 2005, EDA published a second interim final rule in the Federal Register (70 FR 74193) to put into effect immediately only those changes to the August 11, 2005 interim final rule specified in the Conference Report (H.R. Conf. Rep. No. 109-272) accompanying the FY 2006 Science, State, Justice, Commerce and Related Agencies Appropriations Act (Pub. L. 109-108).

EDA conducted a review of its forms and other information collections to ensure that they are consistent with the amendments to PWEDA made by the 2004 Act and with the interim final rule. As part of its continuing effort to reduce respondent burden under the Paperwork Reduction Act of 1995, as amended (44 U.S.C. 3501 et seq.), on November 14, 2005 EDA published a notice in the Federal Register (70 FR 69137) providing the general public and other federal agencies with a 60-day period in which to comment on its information collections. EDA received two public comments regarding the Form ED-840P (Petition by a Firm for Certification of Eligibility to Apply for Trade Adjustment Assistance), which are addressed later in this notice as part of the Trade Adjustment Assistance for Firms discussion.

Concurrent with the publication of this notice, EDA is submitting for OMB clearance the proposed information collections set forth in this notice. EDA is requesting OMB approval of these information collections no later than April 30, 2006. As part of its continuing effort to reduce paperwork and respondent burden under the Paperwork Reduction Act, the general public and other federal agencies may submit comments on the proposed information collections set forth in this notice during the time period specified in the DATES section of this notice. Comments should be submitted to the contact person specified in the ADDRESSES section of this notice. When publishing a final rule during 2006, EDA will consider additional paperwork and respondent burdens (if any) resulting from changes to the interim final rule and will revise the information collections set forth in this notice as needed.

EDA forms are available for downloading, filling-in and printing (pdf file format) on EDA's Internet Web site at http://www.eda.gov. These forms are not currently transaction-based. EDA anticipates that certain of its forms and other information collections will be able to be filed online when EDA begins posting application packages and other forms on grants.gov, the electronic storefront for interactions between grant applicants and federal grant-making agencies. EDA does, however, generally accept submissions of information from respondents via electronic mail and magnetic media (e.g., diskette).

II. Collections of Information

A. Trade Adjustment Assistance for Firms (OMB Control No. 0610-0091)

1. Purpose: Chapters 3 and 5 of title II of the Trade Act of 1974, as amended (19 U.S.C. 2341 et seq.; “Trade Act”), direct the Secretary of Commerce to accept petitions from firms that have been adversely affected by increased imports of articles like or directly competitive with their own. The Secretary of Commerce has delegated this statutory authority to EDA, which administers the Trade Adjustment Assistance for Firms program to assist trade-injured U.S. manufacturing and producing firms to develop and implement strategies for competing in the global marketplace. EDA uses Form ED-840P (Petition by a Firm for Certification of Eligibility to Apply for Trade Adjustment Assistance) to collect information from a petitioning firm to determine if it is eligible to apply for trade adjustment assistance. In addition, §§ 315.6 and 315.16 of the IFR set out requirements for submission of an appropriate adjustment proposal for technical assistance following certification. Section 315.9 of the IFR entitles a person or entity with a “substantial interest” in an accepted petition for TAA certification to request a public hearing on the petition, but requires submission of a written request in accordance with detailed procedures.

We propose consolidating into this OMB Control Number the following two information collections previously assigned OMB Control Nos.: 0610-0105 (Adjustment Assistance Proposals: Sections 315.6 and 315.16 of EDA's Interim Final Rule) and 0610-0106 (Request for Hearing: Section 315.9 of EDA's Interim Final Rule) to better account for all the information collections pertaining to EDA's Trade Adjustment Assistance for Firms Program. Accordingly, the information collections assigned to this OMB Control Number (0610-0094) now encompass the following requirements: (i) Form ED-840P; (b) request for a public hearing; and (c) requirements for an adjustment assistance proposal.

2. Public Comments: EDA received two public comments on the Form ED-840P, Petition by a Firm for Eligibility to Apply for Trade Adjustment Assistance. Both comments were submitted by EDA-sponsored Trade Adjustment Assistance Centers (“TAACs”) and contained common themes and recommendations, many of which are reflected on the revised Form ED-840P submitted with the PRA package for OMB clearance. Under the TAA program, EDA funds a national network of eleven TAACs. One of the essential roles of a TAAC is to help interested firms complete the ED-840P, assemble the required supporting documentation, and submit the completed package to EDA for investigation. This service is provided at no cost to the firm.

Specifically, the commenters generally opined that the burden on firms seeking certification of eligibility from EDA seems excessive considering that firms must be experiencing threshold levels of economic distress in order to qualify for the TAA Program. EDA is sensitive to respondent burden and narrowly tailors its information collections to ensure that they are consistent with the law, efficient and meet agency needs in a manner that causes the least intrusion and burden on EDA clients. The revised (and streamlined) Form ED-840P submitted with the PRA package evinces this policy in large part by adopting many of the commenters' suggestions, which we agree will reduce overall burden on the petitioning (client) firm.

Both commenters also express concern that the “customer list” information collection (which requires petitioning firms to submit the names and contact persons for 8 or 9 customers—preferably customers who decreased their purchases from the firm during the petition period—of which the TAAC generally conducts telephone interviews with at least 3) is overly burdensome and discourages many firms from submitting certification petitions. The customer list interviews conducted by the TAACs are one of the most important components of the overall petition investigation process. The interviews allow the TAACs to verify independently a firm's claim that the increase in imports of like or directly competitive articles is an important cause of the firm's loss of sales or production and decline in employment (the cornerstone of the TAA Program). In an effort to reduce overall respondent burden and in response to this comment, EDA is reducing the number of customers that a firm must list from 8 or 9 down to 4.

The commenters also suggest that EDA eliminate the notarization requirement for the Form ED-840P. EDA agrees with this suggestion and proposes elimination of the notarization requirement on the revised Form ED-840P. However, EDA does not agree with the commenters' suggestion to eliminate the U.S. Harmonized Tariff Schedule as the primary indicator of increased imports of like or directly competitive articles, but does agree that alternative metrics to track imports accurately for purposes of the TAA Program are needed. EDA hopes to work with the TAACs and other stakeholders towards this goal.

Other comments aimed at reducing respondent burden include: eliminating the requirement that firms submit federal income tax returns and state employment tax returns with their petition submissions; (ii) eliminating the “number of sales accounts” question from the Form ED-840P; and (iii) changing the requirement that the period covered by the petition must not end more than 120 days prior to the date the petition is submitted to EDA for investigation to180 days prior to submission. EDA agrees that eliminating the income and employment tax return requirements will go a long way to reducing respondent burden, as will eliminating the sales account question from the Form ED-840P. The revised Form ED-840P (and the instruction thereto) reflect these changes and EDA will revise section 315.8(b) of the IFR to reflect these changes when publishing a final rule during 2006. EDA does not agree with the suggestion to change the temporal scope of the petition from 120 days to 180 days prior to submission to EDA. We believe that, in order to maintain the integrity and relevance of the certification process, 120 days is an appropriate outer-limit for consideration of a petition. This is especially the case since (under the Trade Act) EDA has 60 days from receipt of the petition to complete its investigation.

Another comment suggests that EDA accept the electronic submission of petitions. While EDA does not currently accept petitions submitted electronically, we anticipate that certain of our forms and other information collections will be able to be filed online when EDA begins posting application packages and other forms on grants.gov, the electronic storefront for interactions between grant applicants and federal grant-making agencies. Finally, one comment suggests a change to the “interim decline” period set forth in 13 CFR 315.7(b)(2) and (3). This comment is outside the scope of our PRA submission to OMB, but since we received similar comments during the IFR public comment period, it will be addressed when EDA publishes a final rule during 2006.

3. Method of Collection: Paper Report.

4. Data:

Agency Form Number: ED-840P (Petition by a Firm for Certification of Eligibility to Apply for Trade Adjustment Assistance.)

Type of Review: Regular submission.

Affected Public: Manufacturing or producing firms.

Estimated Number of Annual Responses: 381.

Estimated Time per Response: 8 hours—Form ED-840P; 120 hours—Adjustment Assistance Proposal; 1 hour—request for hearing.

Estimated Total Annual Burden Hours: 23,201.

Estimated Total Annual Cost: $0.

B. Comprehensive Economic Development Strategies and Planning Investments (OMB Control No. 0610-0093)

1. Purpose: The Comprehensive Economic Development Strategy (CEDS) is the foundation for most of EDA's programs. Information gathered through the CEDS is needed by EDA to ensure that regions served by EDA-supported planning organizations have or are developing continuous community-based planning processes and have thoroughly thought out the types of economic development implementation activities that are needed in the region to alleviate unemployment, underemployment, and depressed incomes. Many of EDA's economic development assistance programs either require a CEDS or call for consistency with a CEDS. A major feature of EDA's investment strategy has always been to require a solid and inclusive comprehensive planning process before public works or economic adjustment assistance (with the exception of strategy development) investments are made.

In addition, section 214 of PWEDA (42 U.S.C3154) authorizes the Secretary to waive the CEDS requirement in “special impact areas” if the Secretary determines that the project proposed by the eligible recipient will fulfill a pressing need and will be useful in alleviating or preventing conditions of excessive unemployment or otherwise assist in providing useful employment opportunities for unemployed residents. Part 310 of the EDA regulations implements this provision of law and requires an applicant to provide information to determine the merit of its request for a waiver of the CEDS requirement. In determining if a project can claim special impact status, EDA considers a range of objective economic criteria, including changes in an area's economic base as a result of altered trade patterns, abnormally high unemployment rates for a two-year period, and designation as a Federally-Declared Disaster area, among others. The information collection associated with this requirement was formerly separately controlled as “Special Impact Area” under OMB Control No. 0610-0104. Inasmuch as the sole use of this information collection is in connection with determining whether the CEDS requirement should be waived, we propose placing it along with other CEDS-related collections under OMB Control Number 0610-0093.

2. Public Comments: None.

3. Method of Collection: Paper Report.

4. Data:

Agency Form Number: None.

Type of Review: Regular submission.

Affected Public: State and local governments; Indian Tribes; institutions of higher education; non-profit organizations.

Estimated Number of Annual Responses: 611.

Estimated Time per Response: Initial CEDS for District Organizations and other EDA-funded planning organizations—242 hours; CEDS for non-Districts and non-EDA-funded organizations—40 hours; Annual CEDS Report—40 hours; CEDS update—77 hours; Special Impact Area—8 hours.

Estimated Total Annual Burden Hours: 30,786.

(Initial CEDS for District Organizations and other EDA-funded planning organizations—3,630 hours; CEDS for non-Districts and non-EDA-funded organizations—3,360 hours; Annual CEDS Report—16,000 hours; CEDS update—7,700 hours; Special Impact Area—96 hours).

Estimated Total Annual Cost: $0.

C. Proposal and Application Requirements (OMB Control No. 0610-0094)

1. Purpose: The information collections contained in the Pre-Application for Investment Assistance (Form ED-900P) are necessary for EDA to evaluate on a preliminary basis whether investment proposals satisfy eligibility and programmatic requirements contained in PWEDA, the accompanying EDA's regulations and the applicable Announcement of Federal Funding Opportunity (“FFO”) for the proposed project. For those investment proposals that EDA wishes to further pursue, the applicant is invited by EDA to submit a “formal” application for EDA investment assistance. The information collections contained in the Application for Investment Assistance (Form ED-900A) are necessary to allow EDA to make final determinations that applicants and projects meet eligibility and programmatic requirements contained in PWEDA, the accompanying regulations, the applicable FFO, and other federal authorities (e.g. OMB Circulars). The information collections contained in the formal application are also necessary to finalize the terms and conditions of the investment, including but not limited to the scope of work and non-federal share and other funding commitments for the project.

2. Public Comments: None.

3. Method of Collection: Paper Report.

4. Data:

Agency Form Numbers: ED-900P (Pre-Application for Investment Assistance); ED-900A (Application for Investment Assistance).

Affected Public: State and local governments; Indian Tribes; institutions of higher education; non-profit organizations; and for-profit organizations and private individuals (only for proposals and applications for training, research or technical assistance investments under Section 207 of PWEDA).

Estimated Number of Annual Responses: 1735.

Estimated Time per Response: ED-900P—8 hours; ED-900A—38 hours.

Estimated Total Annual Burden Hours: 37,550 (7,568 for ED-900P; 29,982 for ED-900A).

Estimated Total Annual Cost: $0.

D. Revolving Loan Fund Reporting and Compliance Requirements Grants (OMB Control No. 0610-0095)

1. Purpose: The information collections assigned to this OMB Control Number are necessary to implement, monitor and enforce the requirements of EDA's Revolving Loan Fund (RLF) investments. Specifically, subpart B of 13 CFR Part 307 sets forth specific restrictions and requirements applicable to RLF investments, including submission of financial and performance reports, audit requirements, use of RLF income, maintenance of loan documentation, capital utilization standard requirements, and RLF Plan obligations. Recipients must manage RLF investments in accordance with an RLF Plan, which must be submitted to and approved by EDA and passed by resolution of the RLF recipient's governing board prior to the initial disbursement of EDA funds. The RLF administrator must also monitor its borrowers and certify to EDA that they are in compliance with applicable civil rights and environmental law, flood hazard insurance and Davis-Bacon Act requirements.

2. Public Comments: None.

3. Method of Collection: Paper Report.

4. Data:

Agency Form Numbers: ED-209A (RLF Annual Report); ED-209S (RLF Semi-Annual Report); ED-209I (Income and Expense Statement).

Type of Review: Regular submission.

Affected Public: State and local governments; Indian Tribes; institutions of higher education; non-profit organizations.

Estimated Number of Annual Responses: 596.

Estimated Time per Response: 15 hours for general regulatory/programmatic compliance; 40 hours to develop the RLF Plan; 12 hours for the Semi-Annual Report and the Annual Report; and 2 hours for the Income and Expense Statement.

Estimated Total Annual Burden Hours: 23,428 (8,940 hours for general Regulatory/Programmatic Compliance; 600 hours to develop the RLF Plan; 12,696 hours for the Semi-Annual Report and the Annual Report; and 1,192 hours for the Income and Expense Statement).

Estimated Total Annual Cost: $0.

E. Construction Investments (OMB Control No. 0610-0096)

1. Purpose: EDA investments under the Public Works and Economic Adjustment Programs help distressed communities revitalize and upgrade their physical infrastructure and economic development facilities. They provide grants to eligible applicants to promote long-range economic development in order to reduce unemployment, and increase income. The grants are used to design, build, improve or expand vital public infrastructure and economic development facilities. These facilities, in turn, help regions to attract new, or support existing businesses that will result in an environment where higher-skill, higher-wage jobs are created. EDA regulations at 13 CFR Part 305 include program requirements that are unique to construction awards. In some cases, these involve reporting or record keeping requirements.

EDA intends to discontinue the Requirements for Approved Construction Investments (RFACI) publication currently associated with this OMB Control No. 0610-0096. The purpose of the RFACI is to provide guidance to EDA grant recipients to ensure compliance with federal regulations pertaining to federally assisted construction projects. Much of the RFACI is based on EDA regulations, the “Common Rule” set forth by the U.S. Department of Commerce in 15 CFR Parts 14 and 24 and other federal authorities. The RFACI is intended to supplement and explain these federal requirements and does not replace or negate such requirements. Any inconsistencies or conflicts are resolved in favor of such federal requirements. EDA will continue the information collections required pursuant to 13 CFR Part 305 and federal law under OMB Control No. 0610-0096 with a change in its title from “Requirements for Approved Construction Investments (9th Ed.)” to “Construction Investments” to avoid confusion with the to-be-discontinued publication.

2. Public Comments: None.

3. Method of Collection: Paper Report.

4. Data:

Agency Form Number: None.

Type of Review: Regular submission.

Affected Public: State and local governments; Indian Tribes; institutions of higher education; non-profit organizations.

Estimated Number of Annual Responses: 707.

Estimated Time per Response: 20 hours.

Estimated Total Annual Burden Hours: 14,140 hours.

Estimated Total Annual Cost: $0.

F. Award Amendment Requests and Project Service Maps (OMB Control No. 0610-0102)

1. Purpose: An EDA investment award stipulates a contractual relationship between the recipient and EDA, which outlines the obligations and responsibilities of each party. EDA must maintain the ability to approve or reject any proposed changes to that relationship in order to ensure its funds are used in the most effective manner. It is necessary that a recipient wishing to amend its investment award submit a request to EDA, otherwise, the parties may be working under two different understandings of the terms of the investment award. This requirement is listed in section 302.7(a) of the IFR. A project service map helps EDA to monitor a Project's economic development effect on different areas in the region it was intended to assist. This requirement is set forth in § 302.16(c) of the IFR.

2. Public Comments: None.

3. Method of Collection: Paper Report.

4. Data:

Agency Form Number: None.

Type of Review: Regular submission.

Affected Public: State and local governments; Indian Tribes; institutions of higher education; non-profit organizations; and for-profit organizations and private individuals (only for training, research or technical assistance projects under Section 207 of PWEDA).

Estimated Number of Annual Responses: 55 (20 planning investment amendments; 25 non-planning investments; and 10 project service maps).

Estimated Time per Response: 4 hours for amendments to planning investments; 16 hours for amendments to non-planning investments; and 6 hours for project service maps.

Estimated Total Annual Burden Hours: 540.

Estimated Total Annual Cost: $0.

G. Property Management (OMB Control No. 0610-0103)

1. Purpose: Section 314.3(f) of the IFR generally provides that a recipient may request in writing that EDA approve the incidental use of property acquired or improved with EDA investment assistance, provided that respondent is in compliance with applicable law and the terms and conditions of the investment assistance and the incidental use does not otherwise interfere with the scope of the EDA project or the economic useful life of the property. This information collection is necessary in order for EDA to ensure that the use of property acquired or improved with EDA investment assistance complies with the authorized uses of property set forth in section 314.3 of the IFR and the terms and conditions of the EDA investment assistance. In addition, § 314.10(d) of the IFR generally provides that a recipient must request in writing a release of EDA's property interest and disclose to EDA the intended future use of the real property or tangible personal property for which a release is sought. A recipient receiving an EDA release is required to record a restrictive covenant of use. This request and declaration of intentions are necessary in order for EDA to determine whether to grant the recipient's release request. The recordation of the covenant of use is necessary to provide notice to the respondent's successors-in-interest that there are use restrictions that attach to the property.

2. Public Comments: None.

3. Method of Collection: Paper Report.

4. Data:

Agency Form Number: None.

Type of Review: Regular submission.

Affected Public: State and local governments; Indian Tribes; institutions of higher education; non-profit organizations.

Estimated Number of Annual Responses: 45 (25 requests for incidental use; 20 release requests).

Estimated Time per Response: 6 hours per incidental use request; 12 hours per release request.

Estimated Total Annual Burden Hours: 390.

Estimated Total Annual Cost: $0.

III. Request for Comments

Public comments are invited with respect to each of the collections of information listed above on: (a) Whether the proposed collection of information is necessary for the proper performance of the functions of the agency, including whether the information shall have practical utility; (b) the accuracy of the agency's estimate of the burden (including hours and cost) of the proposed collection of information; (c) ways to enhance the quality, utility and clarity of the information to be collected; and (d) ways to minimize the burden of the collection of information on respondents, including through the use of automated collection techniques or other forms of information technology. Comments submitted in response to this notice will become a matter of public record.

Dated: February 27, 2006.
Gwellnar Banks,
Management Analyst, Office of the Chief Information Officer.

[FR Doc. E6-2948 Filed 3-1-06; 8:45 am]

BILLING CODE 3510-24-P